DEPARTMENT OF LABOR

Employment and Training Administration

[TA-W-40,695]

Nolato Shieldmate, Inc., Itasca, IL; Notice of Negative Determination Regarding Application for Reconsideration

By application dated March 14, 2002, the company requested administrative reconsideration of the Department's negative determination regarding eligibility to apply for Trade Adjustment Assistance (TAA), applicable to workers and former workers of the subject firm. The denial notice was signed on February 25, 2002, and published in the Federal Register on March 20, 2002 (67 FR 13010).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The petition for the workers of Nolato Shieldmate, Inc., Itasca, Illinois was denied because the “contributed importantly” group eligibility requirement of section 222(3) of the Trade Act of 1974, as amended; was not met. The denial was based on evidence indicating that customers of the subject firm do not import plastic housings for cellular phones. The relocation by a customer of their cell phone production to a foreign site necessitated a reliance on local sources for the phone housings. Complete cellular phones are not like or directly competitive with the phone housings made by the subject firm and cannot be used as a basis for certification.

The petitioner feels that the eligibility criteria have been met based on the fact that the manufacture of cellular phone housing sub-assemblies (plastic housings) has moved to China, even though the cellular telephone housing sub-assemblies are not imported back to the United States. The petitioner further states that product is a component of a cellular phone that is imported back to the United States.

The imports of any other product by the company or customer is not relevant to this petition that was filed on behalf of worker(s) producing plastic housing for cell phones. The products imported must be “like or directly competitive” with what the subject plant produces to meet the eligibility requirements of section 222(3) of the Trade Act of 1974, as amended.

The petitioner further states that a major customer of the subject firm for whom the subject firm produced plastic housing was certified eligible for TAA and therefore believes the subject plant workers should be certified for TAA.

The certification of a customer is not a basis for TAA certification. The customer would have to demonstrate that a meaningful portion of their imports of products “like or directly competitive” with plastic housing increased significantly during the relevant period, contributing importantly to the layoffs at the subject plant. The customer in this case shifted their production of cell phones to China and relied solely on local sources for their plastic housing requirements. The customer imported the complete cell phones back to the United States. Complete cell phones are not “like or directly competitive” with the phone housing produced by the subject firm and cannot be used as a basis in meeting the group eligibility requirement of Section 222(3) of the Trade Act of 1974, as amended.

Conclusion

After review of the application and investigative findings, I conclude that there has been no error or misinterpretation of the law or of the facts which would justify reconsideration of the Department of Labor's prior decision. Accordingly, the application is denied.

Signed at Washington, DC, this 9th day of May, 2002.
Edward A. Tomchick,
Director, Division of Trade Adjustment Assistance.

[FR Doc. 02-14596 Filed 6-10-02; 8:45 am]

BILLING CODE 4510-30-P